DEPARTMENT OF TRANSPORTATION

Federal Aviation Administration

14 CFR Part 39

[Docket No. 2003-NM-135-AD]

RIN 2120-AA64

Airworthiness Directives; Airbus Model A319 and A320-200 Series Airplanes

AGENCY: Federal Aviation Administration, DOT.

ACTION: Notice of proposed rulemaking (NPRM).

SUMMARY: This document proposes the supersedure of an existing airworthiness directive (AD), applicable to certain Airbus Model A319 and A320-200 series airplanes, that currently requires repetitive inspections to detect loose, missing, or discrepant rivets in specified areas of the door frames of the overwing emergency exits, and corrective action if necessary. That AD also requires measurement of the grip length of all rivets in the specified areas, and corrective action if necessary, which terminates the repetitive inspections. This new action would add an inspection for correct dimensions of the interior countersinks of the rivet holes, and related corrective action. The actions specified by the proposed AD are intended to prevent loose, missing, or discrepant rivets, which could lead to reduced structural integrity of the door frames of the overwing emergency exits. This action is intended to address the identified unsafe condition.

DATES: Comments must be received by May 7, 2004.

ADDRESSES: Submit comments in triplicate to the Federal Aviation Administration (FAA), Transport Airplane Directorate, ANM-114, Attention: Rules Docket No. 2003-NM-135-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-135-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-135-AD.” The postcard will be date stamped and returned to the commenter.

Availability of NPRMs

Any person may obtain a copy of this NPRM by submitting a request to the FAA, Transport Airplane Directorate, ANM-114, Attention: Rules Docket No. 2003-NM-135-AD, 1601 Lind Avenue, SW., Renton, Washington 98055-4056.

Discussion

On February 21, 2002, the FAA issued AD 2002-04-10, amendment 39-12667 (67 FR 9392, March 1, 2002), applicable to certain Airbus Model A319 and A320-200 series airplanes, to require repetitive inspections to detect loose or missing rivets in specified areas of the door frames of the overwing emergency exits, and corrective action if necessary. That AD also requires measurement of the grip length of all rivets in the specified areas, and corrective action if necessary, which terminates the repetitive inspections. That action was prompted by mandatory continuing airworthiness information from a foreign airworthiness authority. The requirements of that AD are intended to detect and correct loose, missing, or discrepant rivets, which could lead to reduced structural integrity of the overwing emergency exit door frames.

Actions Since Issuance of Previous Rule

Since the issuance of AD 2002-04-10, the Direction Générale de l'Aviation Civile (DGAC), which is the airworthiness authority for France, has informed us of the cancellation of French airworthiness directive 2001-241(B), dated June 27, 2001, which was referenced in AD 2002-04-10. The DGAC mandated an inspection program to detect loose, missing, or discrepant rivets and verify the grip length of affected rivets. During accomplishment of the inspection required by AD 2002-04-10, one operator reported that some of the interior courtersinks did not meet design requirements, which could affect the structural integrity of the airplane. Therefore, the DGAC has issued French airworthiness directive 2003-147(B) R1, dated May 14, 2003, to require a supplemental inspection program to measure affected interior countersinks of the rivet holes.

Explanation of Relevant Service Information

Airbus has issued Service Bulletin A320-53-1147, Revision 02, including Appendix 01, dated December 3, 2002. Revision 02 is similar to the original issue of the service bulletin (which was referenced in the existing AD for accomplishment of the specified actions), but adds work for airplanes which have been inspected per the original issue. Revision 02 describes additional procedures for a detailed visual inspection for correct dimensions of the interior countersinks of the rivet holes, and related corrective action. The related corrective action includes rework of any interior countersink with an incorrect dimension to the correct dimension, and installation of a new rivet with the correct grip length.

Airbus also has issued Service Bulletin A320-53-1147, Revision 03, including Appendix 01, dated August 5, 2003. Revision 03 merely notes minor changes to French airworthiness directive 2003-147(B), dated April 26, 2003, by issuance of French airworthiness directive 2003-147(B) R1, dated May 14, 2003 (which is referenced in the proposed AD, as specified below).

The DGAC classified this service bulletin as mandatory and issued French airworthiness directive 2003-147(B) R1, dated May 14, 2003, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed AD

Since an unsafe condition has been identified that is likely to exist or develop on other airplanes of the same type design registered in the United States, the proposed AD would supersede AD 2002-04-10 to continue to require repetitive inspections to detect loose, missing, or discrepant rivets in specified areas of the door frames of the overwing emergency exits and corrective action if necessary. This proposed AD also continues to require measurement of the grip length of all rivets in the specified areas, and corrective action if necessary, which terminates the repetitive inspections. In addition, the proposed AD adds an inspection for correct dimensions of the interior countersinks, and related corrective action. The actions would be required to be accomplished in accordance with the service bulletin described previously, except as discussed below.

Difference Between Proposed Rule and Service Bulletin

Although the service bulletin specifies that operators may contact the manufacturer for disposition of certain repair conditions, this proposal would require operators to repair those conditions per a method approved by either the FAA or the DGAC (or its delegated agent). In light of the type of repair that would be required to address the unsafe condition, and consistent with existing bilateral airworthiness agreements, we have determined that, for this proposed AD, a repair approved by either the FAA or the DGAC would be acceptable for compliance with this proposed AD.

Explanation of Change Made to Existing Requirements

We have changed all references to a “detailed visual inspection” in the existing AD to “detailed inspection” in this proposed AD. We also have revised Note 1 to define the detailed inspection.

Explanation of Compliance Time

Although we normally require that any corrective action be done before further flight, we have determined that the potential for reduced structural integrity of the door frame is very low if the dimension of an interior countersink is incorrect. Thus, we have determined that the corrective action may be deferred until 1,000 flight cycles after accomplishment of the inspection required by paragraph (e) of this AD, as recommended in the service bulletin. Such deferral will not adversely affect safety.

Work Hour Rate Increase

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 168 airplanes of U.S. registry that would be affected by this proposed AD.

The inspections that are currently required by AD 2002-04-10 take about 1 work hour per airplane to do, at an average labor rate of $65 per work hour. Based on these figures, the cost impact of the currently required inspections is estimated to be $65 per airplane, per inspection cycle.

The new inspection that is proposed in this AD action would take about 1 work hour per airplane to do, at an average labor rate of $65 per work hour. Based on these figures, the cost impact of the new inspection proposed by this AD on U.S. operators is estimated to be $10,920, or $65 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12667 (67 FR 9392, March 1, 2002), and by adding a new airworthiness directive (AD), to read as follows:

Airbus: Docket 2003-NM-135-AD. Supersedes AD 2002-04-10, Amendment 39-12667.

Applicability: Model A319 series airplanes and A320-200 series airplanes; certificated in any category; as listed in Airbus Service Bulletin A320-53-1147, dated September 22, 2000; Revision 02, dated December 3, 2002; or Revision 03, dated August 5, 2003.

Compliance: Required as indicated, unless accomplished previously.

To prevent loose, missing, or discrepant rivets in specified areas of the door frames of the overwing emergency exits, which could lead to reduced structural integrity of the door frames, accomplish the following:

Restatement of Requirements of AD 2002-04-10

Repetitive Inspections

(a) Within 3,500 flight cycles after April 5, 2002 (the effective date of AD 2002-04-10, amendment 39-12667): Conduct a detailed inspection of the specified areas of the door frames of the overwing emergency exits for loose, missing, or discrepant rivets, in accordance with Part B and Figure 5 of the Accomplishment Instructions of Airbus Service Bulletin A320-53-1147, dated September 22, 2000; Revision 02, dated December 3, 2002; or Revision 03, dated August 5, 2003. If no loose, missing, or discrepant rivets are found, repeat the inspection at intervals not to exceed 3,500 flight cycles until the requirements of paragraph (d) have been accomplished. As of the effective date of this AD, only Revision 02 or Revision 03 of the service bulletin may be used.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(b) If the inspection required by paragraph (a) of this AD reveals that there are loose, missing, or discrepant rivets: Prior to further flight, accomplish the requirements of either paragraph (b)(1) or (b)(2) of this AD, in accordance with Part C and Figure 5 of the Accomplishment Instructions of Airbus Service Bulletin A320-53-1147, dated September 22, 2000; Revision 02, dated December 3, 2002; or Revision 03, dated August 5, 2003. As of the effective date of this AD, only Revision 02 or Revision 03 of the service bulletin may be used.

(1) Measure the grip length of all rivets in the specified areas in which the loose, missing, or discrepant rivets were detected and perform corrective action (e.g., inspecting rivet holes for cracks, opening up rivet holes, repairing cracks at rivet holes, and installing new rivets) as applicable, per the service bulletin; except as specified in paragraph (c) of this AD. Repeat the detailed visual inspection required by paragraph (a) of this AD at intervals not to exceed 3,500 flight cycles until the requirements of paragraph (d) of this AD have been accomplished.

(2) Measure the grip length of all rivets in all specified areas and perform corrective action (e.g., inspecting rivet holes for cracks, opening up rivet holes, repairing cracks at rivet holes, and installing new rivets) as applicable, per the service bulletin; except as specified in paragraph (c) of this AD.

(c) If Airbus Service Bulletin A320-53-1147, dated September 22, 2000; Revision 02, dated December 3, 2002; or Revision 03, dated August 5, 2003; recommends contacting the manufacturer for instructions concerning certain repairs, perform those repairs in accordance with a method approved by the Manager, International Branch, ANM-116, FAA, Transport Airplane Directorate, or by the Direction Générale de l'Aviation Civile or its delegated agent.

Terminating Action

(d) Prior to the accumulation of 24,000 total flight cycles or within 3,500 flight cycles after April 5, 2002, whichever occurs later: Accomplish the requirements of paragraph (b)(2) of this AD, which constitutes terminating action for the requirements specified in paragraphs (a) and (b) of this AD.

New Requirements of This AD

Inspection of Interior Countersinks/Corrective Action

(e) Prior to the accumulation of 24,000 total flight cycles or within 3,500 flight cycles after the effective date of this AD, whichever occurs later: Do a detailed inspection for correct dimensions of the interior countersinks of the rivet holes of the door frames of the overwing emergency exits; and any related corrective action; per the Accomplishment Instructions of Airbus Service Bulletin A320-53-1147, Revision 02, including Appendix 01, dated December 3, 2002; or Revision 03, including Appendix 01, dated August 5, 2003. Do any related corrective action within 1,000 flight cycles after doing the inspection.

Alternative Methods of Compliance

(f)(1) In accordance with 14 CFR 39.19, the Manager, International Branch, ANM-116, is authorized to approve alternative methods of compliance for this AD.

(2) Alternative methods of compliance, approved previously per AD 2002-04-10, amendment 39-12667, are approved as alternative methods of compliance with paragraphs (a) and (b) of this AD.

Note 2: The subject of this AD is addressed in French airworthiness directive 2003-147(B) R1, dated May 14, 2003.

Issued in Renton, Washington, on March 30, 2004.
Kalene C. Yanamura,
Acting Manager, Transport Airplane Directorate, Aircraft Certification Service.

[FR Doc. 04-7890 Filed 4-6-04; 8:45 am]

BILLING CODE 4910-13-P